DEPARTMENT OF LABOR

Bureau of Labor Statistics

Federal Economic Statistics Advisory Committee; Notice of Renewal

The Secretary of Labor has determined that renewal of the charter of the Federal Economic Statistics Advisory Committee (FESAC) is necessary and in the public interest in connection with the performance of duties imposed upon the Commissioner of Labor Statistics by 29 U.S.C. 1, 2, 3, 4, 5, 6, 7, 8, and 9. This determination follows consultation with the Committee Management Secretariat, General Services Administration.

Name of Committee: Federal Economic Statistics Advisory Committee.

Purpose and Objective: The Committee presents advice and makes recommendations to the Department of Labor, Bureau of Labor Statistics and the Department of Commerce, Bureau of Economic Analysis and Bureau of the Census (the Agencies) from the perspective of the professional economics and statistics community. The Committee examines the Agencies' programs and provides advice on statistical methodology, research needed, and other technical matters related to the collection, tabulation, and analysis of Federal economic statistics.

Balanced Membership Plan: The Committee is a technical committee that is balanced in terms of the professional expertise required. It consists of approximately 13 members, appointed by the Agencies. Its members are economists, statisticians, and behavioral scientists who are recognized for their attainments and objectivity in their respective fields.

Duration: Continuing.

Agency Contact: Cheryl Kerr, 202-691-7808.

Signed at Washington, DC, this 26th day of April, 2002.
Elaine L. Chao,
Secretary of Labor.

[FR Doc. 02-14548 Filed 6-10-02; 8:45 am]

BILLING CODE 4510-24-P